FEDERAL COMMUNICATIONS COMMISSION

Notice of Public Information Collection(s) Being Reviewed by the Federal Communications Commission

October 17, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 26, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0430.

Title: 47 CFR 1.1206, Permit-but-Disclose Proceedings.

Form No.: N/A.

Type of Review: Extension of a currently approved collection.

Respondents: Individuals or households, businesses or other for-profit, not-for-profit institutions, federal government, and state, local or tribal governments.

Number of Respondents: 10,000.

Estimated Time Per Response: .50 hours.

Frequency of Response: On occasion reporting requirement, and recordkeeping requirement.

Total Annual Burden: 5,000 hours.

Total Annual Cost: N/A.

Needs and Uses: The Commission's rules require that a public record be made of ex parte presentations in “permit-but-disclose” proceedings, such as notice-and-comment rulemakings. Persons making such presentations are required to file copies of written presentations and memoranda of new data or arguments in oral presentations. The availability of the ex parte materials helps ensure that interested parties/persons have fair notice of presentations made to the Commission and the development of a complete record.

OMB Control No.: 3060-0215.

Title: Section 73.3527, Local Public Inspection File of Noncommercial Educational Stations.

Form No.: N/A.

Type of Review: Extension of a currently approved collection.

Respondents: Not-for-profit institutions.

Number of Respondents: 2,515.

Estimated Time Per Response: 2 hours per week (104 hours per year) + 1 hour for 15 NCE TV Stations.

Frequency of Response: Recordkeeping requirement, and third party disclosure requirement.

Total Annual Burden: 261,575 hours.

Total Annual Cost: N/A.

Needs and Uses: Section 73.3527 requires each noncommercial educational broadcast station licensee/permittee to maintain a file for public inspection. The contents of the file vary according to type of service and status. The public and the FCC staff in use the data in field investigations to evaluate information about the station's performance. This submission is being sent to the Office of Management and Budget (OMB) to obtain the full three-year approval.

Federal Communications Commission.
Magalie Roman Salas,
Secretary.

[FR Doc. 01-26842 Filed 10-24-01; 8:45 am]

BILLING CODE 6712-01-P